COMMISSION ON CIVIL RIGHTS

Sunshine Act Notice

AGENCY: U.S. Commission on Civil Rights.

DATE AND TIME: Friday, April 9, 2004, 9:30 a.m.

PLACE: U.S. Commission on Civil Rights, 624 9th Street, NW., Room 540, Washington, DC 20425.

STATUS:

Agenda

I. Approval of Agenda

II. Approval of Minutes of March 19, 2004 Meeting

III. Announcements

IV. Staff Director's Report

V. Future Agenda Items

10 a.m. Briefing on Voting and Election Reform: Voter Empowerment—Tools, Integrity, and Ensuring Access.

FOR FURTHER INFORMATION CONTACT: Les Jin, Press and Communications (202) 376-7700.

Debra A. Carr,
Deputy General Counsel.

[FR Doc. 04-7674 Filed 3-31-04; 3:20 pm]

BILLING CODE 6335-01-M